POSTAL SERVICE

Sunshine Act Meetings

TIME AND DATE: Tuesday, April 15, 2025, at 10:30 a.m. EST.

PLACE: Washington, DC, at U.S. Postal Service Headquarters, 475 L'Enfant Plaza SW.

STATUS: Closed.

MATTERS TO BE CONSIDERED: Operations Committee of the Board of Governors of the United States Postal Service.

The Committee will consider the below matters.

1. Administrative Matters.

2. Operational Matters.

General Counsel Certification: The General Counsel of the United States Postal Service has certified that the meeting may be closed under the Government in the Sunshine Act.

CONTACT PERSON FOR MORE INFORMATION: Lucy C. Trout, Acting Secretary of the Board of Governors, U.S. Postal Service, 475 L'Enfant Plaza SW, Washington, DC 20260-1000. Telephone: (202) 268-4800.

Lucy C. Trout,
Acting Secretary.

[FR Doc. 2025-06302 Filed 4-9-25; 11:15 am]

BILLING CODE 7710-12-P